CONSUMER PRODUCT SAFETY COMMISSION

Sunshine Act Meetings

TIME AND DATE: Thursday, December 6, 2007, 10 a.m.

PLACE: Room 420, Bethesda Towers, 4330 East West Highway, Bethesda, Maryland.

STATUS: Open to the public.

Matter to be Considered:

Upholstered Furniture

The staff will brief the Commission on its briefing package regarding regulatory options on upholstered furniture flammability.

For a recorded message containing the latest agenda information, call (301) 504-7948.

CONTACT PERSON FOR MORE INFORMATION: Todd A. Stevenson, Office of the Secretary, U.S. Consumer Product Safety Commission, 4330 East West Highway, Bethesda, Bethesda, MD 20814 (301) 504-7923.

Dated: November 20, 2007.
Todd A. Stevenson,
Secretary.

[FR Doc. 07-5827 Filed 11-20-07; 1:02 pm]

BILLING CODE 6355-01-M